OFFICE OF GOVERNMENT ETHICS

Proposed Collection; Comment Request for Unmodified Public Financial Disclosure Access Customer Service Survey

AGENCY: Office of Government Ethics (OGE).

ACTION: Notice.

SUMMARY: After this first round notice and public comment period, OGE plans to submit the Public Financial Disclosure Access Customer Service Survey form to the Office of Management and Budget (OMB) for three-year extension of approval under the Paperwork Reduction Act. OGE is proposing no changes to the survey form.

DATES: Comments by the public and agencies on this proposed information collection extension are invited and should be received by March 2, 2005.

ADDRESSES: Comments should be sent to: Mary T. Donovan, Office of Administration and Information Management, U.S. Office of Government Ethics, Suite 500, 1201 New York Avenue, NW., Washington, DC 20005-3917. Comments may also be sent electronically to OGE's e-mail address at usoge@oge.gov (for e-mail messages, the subject line should include the following reference—“Public Financial Disclosure Access Customer Service Survey”).

FOR FURTHER INFORMATION CONTACT: Ms. Donovan at the U.S. Office of Government Ethics; telephone: 202-482-9232; TDD: 202-482-9293; FAX: 202-482-9237. A copy of the Public Financial Disclosure Access Customer Service Survey form may be obtained, without charge, by contacting Ms. Donovan.

SUPPLEMENTARY INFORMATION: The Office of Government Ethics uses the Public Financial Disclosure Access Customer Service Survey form (OMB control number 3209-0009) to assess requester satisfaction with the service provided by OGE in responding to requests by members of the public for access to copies of Standard Form (SF) 278 Executive Branch Personnel Public Financial Disclosure Reports on file with OGE. Most of the SF 278 reports available at OGE are those filed by executive branch Presidential appointees subject to Senate confirmation. Requests for access to SF 278 reports are made pursuant to the special public access provision of section 105 of the Ethics in Government Act of 1978 (the Ethics Act), as codified at 5 U.S.C. appendix section 105, and procedures in 5 CFR 2634.603 of OGE's executive branchwide regulations. Requesters ask for copies of SF 278 reports by completing an OGE Form 201, “Request to Inspect or Receive Copies of SF 278 Executive Branch Personnel Public Financial Disclosure Reports or Other Covered Records.”

OGE distributes the survey forms to requesters along with copies of requested SF 278 reports. OGE notes that the survey form is only authorized for its own use, not by other agencies throughout the executive branch. The instructions on the survey form ask the requester to complete and return the survey form to OGE via the self-contained postage-paid postcards (the reverse side of the survey form, when folded, becomes a pre-addressed postcard). The purpose of the survey form is to determine through customer responses how well OGE is responding to such requests and how OGE can maintain its current high-level of customer satisfaction in this area.

OGE is issuing this first round Federal Register notice to announce its forthcoming request to OMB for paperwork renewal of the survey form with no modifications. If OGE's current stock of survey forms is depleted within the next three years, OGE plans to reprint the form with two minor modifications (with notice to OMB at that time) without further paperwork clearance. These modifications are: updating the OGE address from “Attn: FDD” to “Attn: PSD” and, in the public burden statement, change “Associate Director for Administration” to “Deputy Director for Administration and Information Management.”

The current paperwork approval is scheduled to expire at the end of March 2005. Pursuant to the Paperwork Reduction Act (44 U.S.C. chapter 35), OGE is not including in its public burden estimate for the survey form the limited number of access requests filed by other Federal agencies or Federal employees. Nor is OGE including in that estimate, the limited number of requests for copies of other records covered under the special Ethics Act public access provision (such as certificates of divestiture) since the survey form is only sent to persons who request copies of SF 278 reports.

As so defined, OGE's estimate for the total number of survey forms to be filed annually at OGE over the next three years by members of the public (primarily by news media representatives, public interest group members and private citizens) is 30. This estimate is based on a calculation of the number of survey forms received at OGE between January 2001 and October 2004 (112 survey forms). This estimate is 20 less than that for the prior three-year period. The estimated average amount of time to read the instructions and complete the survey form, remains the same at three minutes. Thus, the new overall estimated annual public burden for the OGE Public Financial Disclosure Access Customer Service Survey form will be two hours (rounded up from one and a half hours (30 forms × 3 minutes per form)).

Public comment is invited on all aspects of the survey form as proposed for renewal including specifically views on: the accuracy of OGE's public burden estimate; the potential for enhancement of quality, utility and clarity of the information to be collected; and the minimization of burden (including the possibility of use of information technology).

After this notice and comment period, OGE will submit the survey form to OMB for review and three-year extension of approval under the provisions of the Paperwork Reduction Act. At that time, OGE will also publish a second paperwork notice in the Federal Register to inform the public and Federal agencies. Comments received in response to this notice will be summarized for, and may be included with, the forthcoming OGE request for OMB three-year paperwork approval. They will also be explained in the second round notice. The comments will also become a matter of public record.

Approved: December 9, 2004.
Marilyn L. Glynn,
Acting Director, Office of Government Ethics.

[FR Doc. 04-27644 Filed 12-16-04; 8:45 am]

BILLING CODE 6345-02-P